DEPARTMENT OF JUSTICE

Antitrust Division

Responses to Public Comments on Proposed Final Judgment in United States v. Northrop Grumman Corporation and TRW Inc.

Pursuant to the Antitrust Procedures and Penalties Act, 15 U.S.C. 16(b)-(h), the United States hereby publishes the four public comments on the proposed Final Judgment in United States v. Northrop Grumman Corporation and TRW Inc., Civil No. 1:02CV02432, filed in the United States District Court for the District of Columbia, together with the responses of the United States to the comments.

On December 11, 2002, the United States filed a Complaint alleging that Northrop Grumman Corporation's proposed acquisition of TRW Inc. would lessen competition substantially in the development, production, and sale of radar reconnaissance satellite systems and electro-optical/infrared reconnaissance satellite systems, and the payloads for those systems, in the United States, in violation of section 7 of the Clayton Act, 15 U.S.C. 18. The proposed Final Judgment, filed at the same time as the Complaint, requires the defendant Northrop to act in a non-discriminatory manner in making teaming and purchase decisions on programs in which, by virtue of the acquisition of TRW, it will be able to compete as both a prime contractor and the supplier of the payloads for the program.

Public comment was invited within the statutory 60-day comment period. The public comments and the responses of the United States thereto are hereby published in the Federal Register, and shortly thereafter these documents will be attached to a Certificate of Compliance with Provisions of the Antitrust Procedures and Penalties Act and filed with the Court, together with a motion urging the Court to enter the proposed Judgment. Copies of the Complaint, the proposed Final Judgment, and the Competitive Impact Statement are currently available for inspection in Room 200 of the Antitrust Division, Department of Justice, 325 7th Street, NW., Washington, DC 20530 (telephone: 202-514-2481) and at the Clerk's Office, United States District Court for the District of Columbia, 333 Constitution Avenue, NW., Washington, DC 20001. (The United States's Certificate of Compliance with Provisions of the Antitrust Procedures and Penalties Act will be made available at the same locations shortly after they are filed with the Court.) Copies of any of these materials may be obtained upon request and payment of a copying fee.

Constance K. Robinson,
Director of Operations, Antitrust Division.

BILLING CODE 4410-11-M

[FR Doc. 03-13028 Filed 5-22-03; 8:45 am]

BILLING CODE 4410-11-C